ENVIRONMENTAL PROTECTION AGENCY

[EPA-HQ-OPP-2014-0396; FRL-9913-34]

Registration Review; Pesticide Dockets Opened for Review and Comment; Correction

AGENCY: Environmental Protection Agency (EPA).

ACTION: Notice; correction.

SUMMARY: EPA issued a notice in the Federal Register of June 25, 2014, concerning the opening for public comment period for several registration reviews. This document corrects the docket identification (ID) number for imazamethabenz to be EPA-HQ-OPP-2014-0394, the docket ID number for propargite to be EPA-HQ-OPP-2014-0131, and an email address error listed in the table of the document. It also corrects the docket ID number for cresol to be EPA-HQ-OPP-2010-0244 in a subsequent paragraph.

FOR FURTHER INFORMATION CONTACT: LaTanya Moody, Pesticide re-Evaluation Division (7508P), Office of Pesticide Programs, Environmental Protection Agency, 1200 Pennsylvania Ave. NW., Washington, DC 20460-0001; telephone number: (703) 308-8022; email address: moody.latanya@epa.gov.

SUPPLEMENTARY INFORMATION:

I. General Information

A. Does this action apply to me?

The Agency included in the June 25, 2014 notice a list of those who may be potentially affected by this action.

B. How can I get copies of this document and other related information?

The docket for this action, identified by docket identification (ID) number EPA-HQ-OPP-2014-0396, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

FR Doc. 2014-14685 published in the Federal Register of June 25, 2014 (79 FR 36056) (FRL-9911-53) is corrected as follows:

1. On page 36057, in Table 1, under the heading III. Registration Reviews; A. What action is the Agency taking?, Table 1—Registration Review Dockets Opening, column named “Docket ID No.”, line 3, Imazamethabenz (Case 7207), correct EPA-HQ-OPP-2014-0395 to read EPA-HQ-OPP-2014-0394.

2. On page 36057, in Table 1, under the heading III. Registration Reviews; A. What action is the Agency taking?, Table 1—Registration Review Dockets Opening, column named “Chemical review manager or regulatory action leader, telephone no., email address”, line 3, Imazamethabenz (Case 7207), correct brittion.cathryn@epa.gov to read britton.cathryn@epa.gov.

3. On page 36058, in the second column of Table 1, under the heading III. Registration Reviews; A. What action is the Agency taking?, Table 1—Registration Review Dockets Opening, column named “Docket ID No.”, line 7, Propargite (Case 243), correct EPA-HQ-OPP-2014-0051 to read EPA-HQ-OPP-2014-0131.

4. On page 36058, in the first column, paragraph 1, line 16, correct EPA-HQ-OPP-2010-0211 to read EPA-HQ-OPP-2010-0244.

List of Subjects

Environmental protection, Pesticides and pests, Benzisothiazolin-3-one, Bispyribac-sodium, Etridiazole, Imazamethabenz, Imazamox, Imazapyr, IR3535, Mecoprop, Mesotrione, Methylisothiazolinone, Octhilinone, Propargite, Pyraclostrobin, Pyraflufen-ethyl, Zinc pyrithione (formerly omadine salts), and Zoxamide.

Dated: July 2, 2014.
Richard P. Keigwin, Jr.,
Director, Pesticide Re-Evaluation Division, Office of Pesticide Programs.

[FR Doc. 2014-16570 Filed 7-15-14; 8:45 am]

BILLING CODE 6560-50-P